DEPARTMENT OF THE INTERIOR

National Park Service

[NPS-WASO-NAGPRA-NPS0040018; PPWOCRADN0-PCU00RP14.R50000]

Notice of Intended Repatriation: Fernbank Museum of Natural History, Atlanta, GA

AGENCY: National Park Service, Interior.

ACTION: Notice.

SUMMARY: In accordance with the Native American Graves Protection and Repatriation Act (NAGPRA), the Fernbank Museum of Natural History intends to repatriate certain cultural items that meet the definition of unassociated funerary objects and that have a cultural affiliation with the Indian Tribes or Native Hawaiian organizations in this notice.

DATES: Repatriation of the cultural items in this notice may occur on or after May 30, 2025.

ADDRESSES: Wil Grewe-Mullins, Fernbank Museum of Natural History, 767 Clifton Road NE, Atlanta, GA 30307, telephone (404) 929-6312, email wil.grewe-mullins@fernbankmuseum.org.

SUPPLEMENTARY INFORMATION: This notice is published as part of the National Park Service's administrative responsibilities under NAGPRA. The determinations in this notice are the sole responsibility of the Fernbank Museum of Natural History, and additional information on the determinations in this notice, including the results of consultation, can be found in the summary or related records. The National Park Service is not responsible for the determinations in this notice.

Abstract of Information Available

A total of 68,682 cultural items have been requested for repatriation. The 68,682 unassociated funerary objects are ceramic disks and figures; ceramic pipe fragments; ceramic sherds; copper sheets; decorative glass items; glass beads; groundstone tools; gun flints; jet beads; lithic tools and debitage; metal beads; metal shot; metal nails and spikes; metal crosses and religious items; modified and unmodified faunal remains; molten and fragmented glass; shell beads; soil samples; stone beads; textile fragments; unmodified marine shell; unmodified rocks and minerals; whole and partial ceramic vessels; and a wooden cross fragment. The objects were recovered from the Mission Santa Catalina de Guale (9Li274) cemetery on St. Catherines Island, Liberty County, Georgia. Human remains representing 431 individuals were removed from the cemetery site during archaeological excavations conducted by the American Museum of Natural History (1982-1986) under direction of Dr. David Hurst Thomas and Dr. Clark S. Larsen. After periods of analysis, the remains were reburied at the cemetery site. In May 1984, three coffins were reburied in conjunction with a ceremony led by Bishop Raymond Lessard to reconsecrate the Catholic church site. All other remains were reburied in 2000 in a ceremony presided over by an ordained Presbyterian minister. The objects recovered from the cemetery excavations are considered unassociated funerary objects. They were stored for intervals at the American Museum of Natural History and on St. Catherines Island for analysis before they were transferred to Fernbank Museum of Natural History by the St. Catherines Island and Edward John Noble Foundations between 2004 and 2010. Based on the information available and the results of consultation, cultural affiliation is reasonably identified by historical information and the geographical location or acquisition history of the human remains and unassociated funerary objects described in this notice.

Determinations

The Fernbank Museum of Natural History has determined that:

• The 68,682 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Seminole Tribe of Florida and The Muscogee (Creek) Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 30, 2025. If competing requests for repatriation are received, the Fernbank Museum of Natural History must determine the most appropriate requestor prior to repatriation. Requests for joint repatriation of the cultural items are considered a single request and not competing requests. The Fernbank Museum of Natural History is responsible for sending a copy of this notice to the Indian Tribes and Native Hawaiian organizations identified in this notice and to any other consulting parties.

Authority: Native American Graves Protection and Repatriation Act, 25 U.S.C. 3004 and the implementing regulations, 43 CFR 10.9.

Dated: April 15, 2025.
Melanie O'Brien,
Manager, National NAGPRA Program.

[FR Doc. 2025-07419 Filed 4-29-25; 8:45 am]

BILLING CODE 4312-52-P